DEPARTMENT OF COMMERCE

International Trade Administration

[A-570-156]

Aluminum Lithographic Printing Plates From the People's Republic of China: Amended Preliminary Determination of the Less-Than-Fair-Value Investigation

AGENCY: Enforcement and Compliance, International Trade Administration, Department of Commerce.

SUMMARY: The U.S. Department of Commerce (Commerce) is amending its preliminarily affirmative determination in the less-than-fair value (LTFV) investigation of aluminum lithographic printing plates (printing plates) from People's Republic of China (China) to correct significant ministerial errors. The period of investigation (POI) is January 1, 2023, through June 30, 2023.

DATES: Applicable June 3, 2024.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 1, 2024, Commerce published in the Federal Register its preliminary affirmative determination in the LTFV investigation of printing plates from China.¹ On May 6, 2024, Eastman Kodak Company (the petitioner) timely alleged that Commerce made significant ministerial errors in calculating FUJIFILM Printing Plate (China) Co., Limited's (Fujifilm) preliminary estimated weighted-average dumping margin.²

¹ See Aluminum Lithographic Printing Plates from the People's Republic of China: Preliminary Affirmative Determination of Sales at Less Than Fair Value, Preliminary Affirmative Determination of Critical Circumstances, and Postponement of Final Determination and Extension of Provisional Measures, 89 FR 35062 (May 1, 2024) (Preliminary Determination), and accompanying Preliminary Decision Memorandum (PDM).

² See Petitioner's Letter, “Petitioner's Comments on Significant Ministerial Errors in Preliminary Margin Calculations,” dated May 6, 2024 (Petitioner Ministerial Errors Allegation).

Scope of the Investigation

The products covered by this investigation are printing plates from China. For a complete description of the scope of this investigation, see the Preliminary Determination.³

³ See Preliminary Determination, 89 FR at 35064.

Legal Framework

Pursuant to 19 CFR 351.224(e), Commerce will correct any significant ministerial error by amending the preliminary determination. A ministerial error is defined as including errors “in addition, subtraction, or other arithmetic function, clerical error resulting from inaccurate copying, duplication, or the like, and any other similar type of unintentional error which {Commerce} considers ministerial.” ⁴ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁵

⁴ See section 735(e) of the Tariff Act of 1930, as amended (the Act); see also 19 CFR 351.224(f).

⁵ See 19 CFR 351.224(g).

Analysis of Significant Ministerial Errors

The petitioner alleged that: (1) Commerce's conversion of surrogate value (SV) information, from a per-kilogram to a per-pound basis for direct material and packing inputs, results in a mismatch in the units of measure between the SV information and Fujifilm's reported data; (2) Commerce erroneously converted the natural gas and steam surrogate values from kilograms to pounds, not to cubic meters and metric tons; and (3) Commerce did not include certain packing input variables in the calculation of the PACKING variable, which is used in the calculation of normal value.⁶ In the Preliminary Determination, when calculating SVs for Fujifilm, we inadvertently converted the SVs to pounds, resulting in a mismatch to Fujifilm's factors of production, which were reported on a kilogram basis.⁷ In addition, we inadvertently excluded certain packing inputs from the calculation of normal value.⁸

⁶ See Petitioner Ministerial Errors Allegation.

⁷ See Memorandum, “Surrogate Values for the Preliminary Determination,” dated April 25, 2024, at Attachment I.

⁸ See Memorandum, “Preliminary Determination Analysis Memorandum for FUJIFILM Printing Plate (China) Co., Limited,” dated April 25, 2024, at Attachment III.

Commerce finds that the allegations by the petitioner constitute significant ministerial errors within the meaning of 19 CFR 351.224(f) and (g)(1), because correcting for these errors increases Fujifilm's preliminary weighted-average dumping margin from 38.57 to 164.31 percent, which is a change that is at least five absolute percentage points in, but not less than 25 percent of, the weighted-average dumping margin calculated for Fujifilm in the Preliminary Determination.

Furthermore, in the Preliminary Determination, Commerce preliminarily determined that it was appropriate to use the facts available in determining the rate of the China-wide entity, pursuant to sections 776(a)(1) and (2)(A)-(C) of the Act,⁹ including the use of an adverse inference, pursuant to section 776(b) of the Act.¹⁰ In selecting a rate to apply to the China-wide entity, Commerce selects a rate that is sufficiently adverse to ensure that the uncooperative party does not obtain a more favorable result by failing to cooperate than if it had fully cooperated.¹¹ In an investigation, it is Commerce's practice with respect to the assignment of an adverse facts available (AFA) rate to select the higher of the: (a) highest margin alleged in the petition; or (b) the highest calculated rate of any respondent in the investigation.¹² As a result of correcting the ministerial errors discussed above, because the rate calculated for Fujifilm is now higher than the dumping margin alleged in the Petition (i.e., 107.62 percent), we find it most appropriate to apply the highest individual margin calculated for Fujifilm (i.e., 477.60 percent) as the basis for the AFA rate assigned to the China-wide entity.¹³ For a detailed discussion of the alleged ministerial errors, as well as Commerce's analysis, see the Ministerial Error Memorandum.¹⁴

⁹ See Preliminary Determination PDM at 12.

¹⁰ Id. at 13.

¹¹ See Preliminary Determination PDM at 14 (citing Tapered Roller Bearing and Parts Thereof, Finished and Unfinished, from Japan, and Tapered Roller Bearings, Four Inches or Less in Outside Diameter, and Components Thereof from Japan; Preliminary Results of Antidumping Duty Administrative Reviews and Partial Termination of Administrative Reviews, 61 FR 57391, 57392 (November 6, 1996), unchanged in Tapered Roller Bearings and Parts Thereof, Finished and Unfinished, from Japan, and Tapered Roller Bearings, Four Inches or Less in Outside Diameter, and Components Thereof, from Japan; Final Results of Antidumping Duty Administrative Revies and Termination in Part, 62 FR 11825 (March 13, 1997)).

¹² Id. (citing Certain Uncoated Paper from Indonesia: Final Determination of Sales at Less Than Fair Value, 81 FR 3101 (January 20, 2016), and accompanying Issues and Decision Memorandum at 7).

¹³ See Memorandum, “Amended Preliminary Determination Analysis Memorandum for FUJIFILM Printing Plate (China) Co., Limited,” dated concurrently with this notice at Attachment III.

¹⁴ See Memorandum, “Less-Than-Fair-Value Investigation of Aluminum Lithographic Printing Plates from the People's Republic of China: Allegations of Ministerial Errors in the Preliminary Determination,” dated concurrently with, and hereby adopted by, this notice (Ministerial Error Memorandum).

Amended Preliminary Determination

As a result of correcting these significant ministerial errors, Commerce determines the following weighted-average dumping margins exist:

Producer | Exporter | Estimated weighted-average dumping margin (percent) | Cash deposit rate (adjusted for subsidy offset) (percent)
Fujifilm Printing Plate (China) Co., Ltd | Fujifilm Printing Plate (China) Co., Ltd | 164.31 | 164.30
China-wide Entity | 477.60 | 477.59

Disclosure

We intend to disclose the calculations performed for this amended preliminary determination to parties within five days after public announcement or, if there is no public announcement, within five days of the date of publication of this notice, in accordance with 19 CFR 351.224(b).

Amended Cash Deposits and Suspension of Liquidation

The collection of cash deposits and suspension of liquidation will be revised according to the rates established in this amended preliminary determination, in accordance with section 773(d) of the Act. Because this amended preliminary determination results in increased cash deposit rates, these rates will be effective on the date of publication of this notice in the Federal Register. These suspension of liquidation instructions will remain in effect until further notice.

Notification of U.S. International Trade Commission (ITC)

In accordance with section 733(f) of the Act, we intend to notify the ITC of our amended preliminary determination.

Notification to Interested Parties

This amended preliminary determination is issued and published in accordance with sections 733(f) and 777(i)(1) of the Act, and 19 CFR 351.224(e).

Dated: May 28, 2024.
Ryan Majerus,
Deputy Assistant Secretary for Policy and Negotiations, performing the non-exclusive functions and duties of the Assistant Secretary for Enforcement and Compliance.

[FR Doc. 2024-12117 Filed 5-31-24; 8:45 am]

BILLING CODE 3510-DS-P